DEPARTMENT OF STATE

[Public Notice 5973]

Culturally Significant Objects Imported for Exhibition Determinations: “Wine, Worship and Sacrifice: The Golden Graves of Ancient Vani”

AGENCY: Department of State.

ACTION: Notice, correction.

SUMMARY: On October 11, 2007, notice was published on page 57987 of the Federal Register (volume 72, number 196) of determinations made by the Department of State pertaining to the exhibition “Wine, Worship and Sacrifice: The Golden Graves of Ancient Vani.” The referenced notice is corrected as to the description of two objects covered, and five additional objects to be included in the the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the corrected and additional objects to be included in the exhibition “Wine, Worship and Sacrifice: The Golden Graves of Ancient Vani”, imported from abroad for temporary exhibition within the United States, are of cultural significance. The corrected and additional objects are imported pursuant to loan agreements with the foreign owners or custodians. I also determine that the exhibition or display of the corrected and additional exhibit objects at the Arthur M. Sackler Gallery, Washington, DC, from on or about December 1, 2007, until on or about February 24, 2008, at the Institute for the Study of the Ancient World, New York, NY, from on or about March 10, 2008 until on or about June 1, 2008, and at possible additional exhibitions or venues yet to be determined, is in the national interest. Public Notice of these Determinations is ordered to be published in the Federal Register.

FOR FURTHER INFORMATION CONTACT: For further information, including a list of the exhibit objects, contact Richard Lahne, Attorney-Adviser, Office of the Legal Adviser, U.S. Department of State (telephone: 202/453-8058). The address is U.S. Department of State, SA-44, 301 4th Street, SW. Room 700, Washington, DC 20547-0001.

Dated: October 16, 2007.
C. Miller Crouch,
Principal Deputy Assistant Secretary for Educational and Cultural Affairs, Department of State.

[FR Doc. E7-20832 Filed 10-22-07; 8:45 am]

BILLING CODE 4710-05-P